DEPARTMENT OF JUSTICE

Notice of Lodging of Consent Decree Under the Clean Air Act and the Resource Conservation and Recovery Act

Under 28 CFR 50.7, notice is hereby given that on December 1, 2006, a proposed Consent Decree (“Consent Decree”) in the matter of United States v. Von Roll America, Inc., Civil Action No. 4:06 CV 2893, was lodged with the United States District Court for the Northern District of Ohio, Eastern Division.

In the complaint in this matter, the United States sought injunctive relief and penalties against Von Roll America, Inc. (“Von Roll”) for claims arising under the Clean Air Act, 42 U.S.C. 7401 et seq., and under the Resource Conservation and Recovery Act, 42 U.S.C. 6901 et seq., in connection with the operation of Von Roll's hazardous waste treatment, storage, and disposal facility located in East Liverpool, Ohio. Under the Consent Decree, Von Roll will: control waste vapors containing volatile organic compounds, including benzene, by installing and operating a carbon absorption system that will consist of no less than two trains of a primary and a secondary carbon box operated in series; install and operate a total hydrocarbon (“THC”) continuous emissions monitor system (“CEMS”) between the primary and secondary carbon box in each dual series to monitor for carbon breakthrough (an indication that the carbon box is no longer effective); and change out the primary box whenever CEMS data shows THCs of 5 ppm or greater on a 60 minute rolling average. Von Roll will pay a civil penalty of $750,000 and, as a Supplemental Environmental Project, will undertake a household hazardous waste collection project valued at $34,000.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Von Roll America, Inc., D.J. Ref. No. 90-5-2-1-08743.

The Consent Decree may be examined at the Office of the United States Attorney, 2 South Main St., Rm. 208, Akron, Ohio 44308, and at U.S. EPA Region 5, 77 W. Jackson St., Chicago, IL 60604. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $21.25 (25 cents per page reproduction cost) payable to the U.S. Treasury, or, if by email or fax, forward a check in the amount to the Consent Decree Library at the stated address.

William D. Brighton,
Assistant Section Chief, Environmental Enforcement Section, Environment and Natural Resources Division.

[FR Doc. 06-9670 Filed 12-13-06; 8:45 am]

BILLING CODE 4410-15-M